DEPARTMENT OF HOUSING AND URBAN DEVELOPMENT

[Docket No. FR-5907-N-38]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), call the toll-free Title V information line at 800-927-7588 or send an email to title5@hud.gov .

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 12-07, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 or send an email to title5@hud.gov for detailed instructions, or write a letter to Ann Marie Oliva at the address listed at the beginning of this Notice. Included in the request for review should be the property address (including zip code), the date of publication in the Federal Register, the landholding agency, and the property number.

For more information regarding particular properties identified in this Notice (e.g., acreage, floor plan, condition of property, existing sanitary facilities, exact street address), providers should contact the appropriate landholding agencies at the following addresses: AGRICULTURE: Ms. Debra Kerr, Department of Agriculture, OPPM, Property Management Division, Agriculture South Building, 300 7th Street SW., Washington, DC 20024, (202) 720-8873; AIR FORCE: Mr. Robert E. Moriarty, P.E., AFCEC/CI, 2261 Hughes Avenue, Ste. 155, JBSA Lackland TX 78236-9853, (315) 225-7384; COE: Ms. Brenda Johnson-Turner, HQUSACE/CEMP-CR, 441 G Street NW., Washington, DC 20314, (202) 761-7238; NAVY: Ms. Nikki Hunt, Department of the Navy, Asset Management Division, Naval Facilities Engineering Command, Washington Navy Yard, 1330 Patterson Ave. SW., Suite 1000, Washington, DC 20374; (202) 685-9426; (These are not toll-free numbers).

Dated: September 12, 2016.
Brian P. Fitzmaurice,
Director, Division of Community Assistance, Office of Special Needs Assistance Programs.

TITLE V, FEDERAL SURPLUS PROPERTY PROGRAM FEDERAL REGISTER REPORT FOR 09/16/2016

Suitable/Available Properties

Building

Kentucky

Buckhorn Lake Project, KY

804 Buckhorn Dam Road

Buckhorn KY 41721

Landholding Agency: COE

Property Number: 31201630020

Status: Excess

Directions: BUCKLK-32543, Structure 01C02 Bathhouse Facilities

Comments: Off-site removal only; 25+ yrs. old; 500 sq. ft.; toilets; contaminated with human waste; remediation required; contact COE for more information.

New Jersey

2 Buildings

New Jersey Ave.

Joint Base MDL NJ 08640

Landholding Agency: Air Force

Property Number: 18201630008

Status: Unutilized

Directions: 5882 (120 sq. ft.) & 5884 (196 sq. ft.)

Comments: Off-site removal only; 50+ yrs. old; sq. ft. listed above; storage; poor condition; contact AF for more information.

North Carolina

Radio Building (13209)

1070 Massey Branch Road

Robbinsville NC 28771

Landholding Agency: Agriculture

Property Number: 15201630019

Status: Excess

Comments: 34+ yrs. old; 53 sq. ft.; repeater/microwave building; roof needs replacing; contact USDA for more information.

Land

Illinois

Outer Marker & Bldg. 262

South East of Mascoutah off Highbanks Road

Mascoutah IL 62258

Landholding Agency: Air Force

Property Number: 18201630013

Status: Unutilized

Comments: 62+ yrs. old; 333 sq. ft.; unusable, beyond repair; asbestos walls; sits on .87 acres of land; requires easement for roads to access property; contact AF for more information.

Unsuitable Properties

Building

Colorado

Building 1606,

Fire Crash House; 560 S. Silver Creek Street

Buckley AFB CO 80011

Landholding Agency: Air Force

Property Number: 18201630012

Status: Unutilized

Comments: Public access denied and no alternative method to gain access without compromising national security; property located within an airport runway clear zone or military airfield.

Reasons: Within airport runway clear zone; Secured Area

Hawaii

Former MCCS Exchange Space/

Bldg. 4, MCBH, Camp Smith

Marine Corps Base Hawaii

Camp Smith HI 96861

Landholding Agency: Navy

Property Number: 77201630024

Status: Excess

Comments: Public access denied and no alternative method to gain access without compromising national security.

Reasons: Secured Area

Illinois

Building 434

434 Hangar Road

Scott AFB IL 62225

Landholding Agency: Air Force

Property Number: 18201630015

Status: Unutilized

Comments: Public access denied and no alternative method to gain access without compromising national security; property located within an airport runway clear zone or military airfield.

Reasons: Within airport runway clear zone; Secured Area

Kentucky

Rough River Lake Project, KY

14957 Falls of Rough/

Cave Creek Recreation Area

Rough River Lake KY

Landholding Agency: COE

Property Number: 31201630018

Status: Excess

Directions: Located within floodway which has not been corrected or contained

Comments: Documented deficiencies: cinder block waste holding tanks significantly deteriorated which is causing massive leaking and cannot be replaced; clear threat to physical safety.

Reasons: Floodway; Extensive deterioration

New Mexico

2 Buildings

208 W. Octagon Street

Cannon AFB NM 88103

Landholding Agency: Air Force

Property Number: 18201630010

Status: Underutilized

Directions: Transient Lodging 1818 & 1819

Comments: Public access denied and no alternative method to gain access without compromising national security.

Reasons: Secured Area

Range Support Building 3121

5000 Sundale Valley Road

Cannon AFB NM 88103

Landholding Agency: Air Force

Property Number: 18201630014

Status: Underutilized

Comments: Public access denied and no alternative method to gain access without compromising national security.

Reasons: Secured Area

Virginia

Building 101C, Lafayette

River Annex

6405 Hampton Blvd.

Norfolk VA 23551

Landholding Agency: Navy

Property Number: 77201630025

Status: Excess

Comments: Public access denied and no alternative method to gain access without compromising national security.

Reasons: Secured Area

Wyoming

3 Buildings

FE Warren AFB WY

FE Warren AFB WY WY 82005

Landholding Agency: Air Force

Property Number: 18201630009

Status: Unutilized

Directions: GHZG S-1, GHXX P-1, GHZTT-1

Comments: Public access denied and no alternative method to gain access without compromising national security.

Reasons: Secured Area

[FR Doc. 2016-22359 Filed 9-15-16; 8:45 am]

BILLING CODE 4210-67-P